DEPARTMENT OF ENERGY

Federal Energy Regulatory Commission

Combined Notice of Filings #1

Take notice that the Commission received the following electric corporate filings:

Docket Numbers: EC15-11-000.

Applicants: American Transmission Company LLC.

Description: Application for Authority to Acquire Transmission Facilities under Section 203 of the Federal Power Act, Request for Expedited Treatment and Shortened Notice Period of American Transmission Company LLC.

Filed Date: 10/15/14.

Accession Number: 20141015-5165.

Comments Due: 5 p.m. ET 11/5/14.

Take notice that the Commission received the following exempt wholesale generator filings:

Docket Numbers: EG15-6-000.

Applicants: Heritage Stoney Corners Wind Farm I, LLC.

Description: Self-Certification of Exempt Wholesale Generator Status of Heritage Stoney Corners Wind Farm I, LLC.

Filed Date: 10/16/14.

Accession Number: 20141016-5086.

Comments Due: 5 p.m. ET 11/6/14.

Take notice that the Commission received the following electric rate filings:

Docket Numbers: ER10-1901-010.

Applicants: Upper Peninsula Power Company.

Description: Notice of Non-Material Change in Status of Upper Peninsula Power Company.

Filed Date: 10/16/14.

Accession Number: 20141016-5051.

Comments Due: 5 p.m. ET 11/6/14.

Docket Numbers: ER14-623-001.

Applicants: PJM Interconnection, L.L.C.

Description: Tariff Amendment per 35.17(b): Compliance Filing per 2/20/2014 Order in Docket No. ER14-623-000 to be effective 11/4/2014.

Filed Date: 10/16/14.

Accession Number: 20141016-5068.

Comments Due: 5 p.m. ET 11/6/14.

Docket Numbers: ER14-2236-001.

Applicants: New York Independent System Operator, Inc., PJM Interconnection, L.L.C.

Description: Compliance filing per 35: NYISO/PJM joint compliance filing to set effective date for NYISO/PJM JOA re CTS to be effective 11/4/2014.

Filed Date: 10/16/14.

Accession Number: 20141016-5067.

Comments Due: 5 p.m. ET 11/6/14.

Docket Numbers: ER14-2740-001.

Applicants: PJM Interconnection, L.L.C.

Description: Tariff Amendment per 35.17(b): Compliance Filing in Docket No. ER14-2740-000 to be effective 11/4/2014.

Filed Date: 10/16/14.

Accession Number: 20141016-5070.

Comments Due: 5 p.m. ET 11/6/14.

Docket Numbers: ER14-2802-001.

Applicants: CP Energy Marketing (US) Inc.

Description: Tariff Amendment per 35.17(b): Supplement to Request for Category 1 Status to be effective 9/9/2014.

Filed Date: 10/15/14.

Accession Number: 20141015-5144.

Comments Due: 5 p.m. ET 11/5/14.

Docket Numbers: ER14-2803-001.

Applicants: CPI USA North Carolina LLC.

Description: Tariff Amendment per 35.17(b): Supplement to Request for Category 1 Status to be effective 9/9/2014.

Filed Date: 10/15/14.

Accession Number: 20141015-5145.

Comments Due: 5 p.m. ET 11/5/14.

Docket Numbers: ER15-111-000.

Applicants: Public Service Company of Colorado.

Description: § 205(d) rate filing per 35.13(a)(2)(iii): 2014-10-16_TSGT-TSA 110 Agrmt-332-NOC-Filing to be effective 10/1/2014.

Filed Date: 10/16/14.

Accession Number: 20141016-5042.

Comments Due: 5 p.m. ET 11/6/14.

Docket Numbers: ER15-112-000.

Applicants: ISO New England Inc.

Description: § 205(d) rate filing per 35.13(a)(2)(iii): 2015 Revised Tariff Sheets for Administrative Costs and Capital Budget to be effective 1/1/2015.

Filed Date: 10/16/14.

Accession Number: 20141016-5061.

Comments Due: 5 p.m. ET 11/6/14.

Docket Numbers: ER15-113-000.

Applicants: ISO New England Inc.

Description: § 205(d) rate filing per 35.13(a)(2)(iii): Rev. Tariff Sheet for Recovery of Costs 2015 NESCOE to be effective 1/1/2015.

Filed Date: 10/16/14.

Accession Number: 20141016-5063.

Comments Due: 5 p.m. ET 11/6/14.

Docket Numbers: ER15-114-000.

Applicants: Alterna Springerville LLC.

Description: Initial rate filing per 35.12 Baseline MBR Tariff to be effective 1/1/2015.

Filed Date: 10/16/14.

Accession Number: 20141016-5066.

Comments Due: 5 p.m. ET 11/6/14.

Docket Numbers: ER15-115-000.

Applicants: ISO New England Inc.

Description: ISO New England Inc.'s 3Q Capital Budget Report.

Filed Date: 10/16/14.

Accession Number: 20141016-5096.

Comments Due: 5 p.m. ET 11/6/14.

Docket Numbers: ER15-116-000.

Applicants: Consumers Energy Company.

Description: Notice of Cancellation of Consumers Energy Company Service Agreement No. 59—Tariff No. 6.

Filed Date: 10/16/14.

Accession Number: 20141016-5097.

Comments Due: 5 p.m. ET 11/6/14.

Take notice that the Commission received the following land acquisition reports:

Docket Numbers: LA14-3-000.

Applicants: Wolverine Power Supply Cooperative, Inc.

Description: Quarterly Land Acquisition Report of Wolverine Power Supply Cooperative, Inc.

Filed Date: 10/16/14.

Accession Number: 20141016-5094.

Comments Due: 5 p.m. ET 11/6/14.

Take notice that the Commission received the following public utility holding company filings:

Docket Numbers: PH15-2-000.

Applicants: Consolidated Edison, Inc.

Description: Consolidated Edison, Inc. submits FERC 65-B Material Change in Facts of Waiver Notification.

Filed Date: 10/15/14.

Accession Number: 20141015-5181.

Comments Due: 5 p.m. ET 11/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2014.
Nathaniel J. Davis, Sr.,
Deputy Secretary.

[FR Doc. 2014-25253 Filed 10-22-14; 8:45 am]

BILLING CODE 6717-01-P